DEPARTMENT OF THE INTERIOR

National Park Service

[NPS-MWR-MORU-10496; 6065-4000-409]

Termination of Environmental Impact Statement for the General Management Plan, Mount Rushmore National Memorial, South Dakota

AGENCY: National Park Service, Interior.

ACTION: Notice of Termination of Environmental Impact Statement.

SUMMARY: The National Park Service (NPS) is terminating the preparation of an environmental impact statement (EIS) for the Mount Rushmore National Memorial General Management Plan (GMP) and will be preparing an Environmental Assessment (EA) instead.

DATES: The draft GMP EA is expected to be distributed for public comment in the fall of 2012. Specific dates, times, and locations will be announced on the Internet at the NPS Planning, Environment, and Public Comment Web site (http://www.parkplanning.nps.gov/moru), at the park Web site (http://www.nps.gov/moru), and will also be available by contacting park staff at the address below.

ADDRESSES: Mount Rushmore National Memorial, 13000 Hwy 244 Bldg 31 Suite 1, Keystone, South Dakota 57751; telephone, (605) 574-2523.

FOR FURTHER INFORMATION CONTACT: Contact Superintendent Schreier at the address above, by telephone at (605) 574-3131, or by email at MORU_Superintendent@nps.gov.

SUPPLEMENTARY INFORMATION: We, the NPS, have determined that an EA rather than an EIS is the appropriate level of environmental documentation for the GMP. Preliminary analysis of alternatives showed there was no potential for significant impacts to park resources and values and no concerns or issues were expressed during the public scoping process for the GMP that have the potential for controversial impacts. For these reasons the NPS determined the proposal would not constitute a major federal action requiring an EIS. A notice of intent to prepare the EIS for the GMP was published in the November 26, 2008, Federal Register (Volume 73, Number 229). Publication of the notice was followed with public meetings held in Rapid City, Hot Springs, and Keystone, South Dakota, in December 2008.

We intend to issue an EA that considers the following two alternatives and their related impacts:

No-action alternative: Continue the present management direction as guided by the 1980 GMP.

Preferred alternative: Relocate emergency operations and park maintenance operations to increase safety and operational effectiveness; rehabilitate an existing overflow parking lot as a picnic/day use area; make trail and observation platform improvements consistent with Architectural Barriers Act Accessibility Standards (ABAAS); and redesign concession dining facilities to accommodate growth in visitation. The preferred alternative would result in beneficial changes in the safety, operations, visitor experience, and accessibility within the memorial.

Dated: May 31, 2012.
Michael T. Reynolds,
Regional Director, Midwest Region.

[FR Doc. 2012-25099 Filed 10-12-12; 8:45 am]

BILLING CODE 4310-F2-M